NATIONAL AERONAUTICS AND SPACE ADMINISTRATION

[Notice (10-059)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: May 21, 2010.

FOR FURTHER INFORMATION CONTACT: Robin W. Edwards, Patent Counsel, Langley Research Center, Mail Code 141, Hampton, VA 23681-2199; telephone (757) 864-3230; fax (757) 864-9190.

NASA Case No.: LAR-16308-2: Catalyst for Decomposition of Nitrogen Oxides.

NASA Case No.: LAR-17245-1: Use of Beam Deflection to Control an Electron Beam Wire.

NASA Case No.: LAR-17286-1: Miniature, Low-Power X-Ray Tube Using a Microchannel Electron Generator Electron Source.

NASA Case No.: LAR-17413-2: Nanoparticle-Containing Thermoplastic Composites and Methods of Preparing Same.

NASA Case No.: LAR-17514-1: Aircraft Configured for Flight in an Atmosphere Having Low Density.

NASA Case No.: LAR-17709-1: Controlling Second Harmonic Efficiency of Laser Beam Interactions.

NASA Case No.: LAR-17723-1: Device and Method for Healing Wounds.

NASA Case No.: LAR-17724-1: Structural Health Monitoring System/Method Using Electroactive Polymer Fibers.

NASA Case No.: LAR-17738-1: Strain-Detecting Composite Materials.

NASA Case No.: LAR-17766-1: Closed-Loop Process Control for Electron Beam Freeform Fabrication and Deposition Processes.

NASA Case No.: LAR-17856-1: Flexible Thin Metal Film Thermal Sensing System.

Dated: May 17, 2010.
Richard W. Sherman,
Deputy General Counsel.

[FR Doc. 2010-12178 Filed 5-20-10; 8:45 am]

BILLING CODE 7510-13-P